DEPARTMENT OF THE INTERIOR

National Park Service

Notice of Inventory Completion for Native American Human Remains and Associated Funerary Objects in the Possession of the American Museum of Natural History, New York, NY; Correction

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

This notice corrects the minimum number of individuals reported in a Notice of Inventory Completion published October 9, 2001 (Federal Register document 01-25150, page 51459). Since publication of the original notice, a review of American Museum of Natural History documentation revealed the presence of an additional individual culturally affiliated with the same tribes listed in the original notice. Paragraphs four and eight of the October 9, 2001, notice are corrected by substituting the following two paragraphs:

In 1902, human remains representing a minimum of four individuals were collected by Ales Hrdlicka from the vicinity of Sacaton, Pinal County, AZ, while Dr. Hrdlicka was a member of the Hyde Expedition, sponsored by the American Museum of Natural History. No known individuals were identified. The two associated funerary objects are fragments of cloth.

Based on the above-mentioned information, officials of the American Museum of Natural History have determined that, pursuant to 43 CFR 10.2 (d)(1), the human remains listed above represent the physical remains of a minimum of five individuals of Native American ancestry. Officials of the American Museum of Natural History also have determined that, pursuant to 43 CFR 10.2 (d)(2), the four objects listed above are reasonably believed to have been placed with or near individual human remains at the time of death or later as part of the death rite or ceremony. Lastly, officials of the American Museum of Natural History have determined that, pursuant to 43 CFR 10.2 (e), there is a relationship of shared group identity that can be reasonably traced between these Native American human remains and associated funerary objects and the Ak Chin Indian Community of the Maricopa (Ak Chin) Indian Reservation, Arizona; Gila River Indian Community of the Gila River Indian Reservation, Arizona; and Salt River Pima-Maricopa Indian Community of the Salt River Reservation, Arizona.

This notice has been sent to officials of the Ak Chin Indian Community of the Maricopa (Ak Chin) Indian Reservation, Arizona; Gila River Indian Community of the Gila River Indian Reservation, Arizona; and Salt River Pima-Maricopa Indian Community of the Salt River Reservation, Arizona. Representatives of any other Indian tribe that believes itself to be culturally affiliated with these human remains and associated funerary objects should contact Elaine Guthrie, Acting Director of Cultural Resources, American Museum of Natural History, Central Park West at 79th Street, New York, NY 10024-5192, telephone (212) 769-5835, before May 13, 2002. Repatriation of these human remains and associated funerary objects to the Ak Chin Indian Community of the Maricopa (Ak Chin) Indian Reservation, Arizona; Gila River Indian Community of the Gila River Indian Reservation, Arizona; and Salt River Pima-Maricopa Indian Community of the Salt River Reservation, Arizona may begin after that date if no additional claimants come forward.

Dated: March 5, 2002.
Robert Stearns,
Manager, National NAGPRA Program.

[FR Doc. 02-8573 Filed 4-11-02; 8:45 am]

BILLING CODE 4310-70-S